DEPARTMENT OF DEFENSE

Department of the Army

Availability of Patents for Exclusive, Partially Exclusive or Nonexclusive Licenses

AGENCY: U.S. Army Soldier and Biological Chemical Command, U.S. Army, DoD.

ACTION: Notice.

SUMMARY: The Department of the Army announces the general availability of exclusive, partially exclusive, or nonexclusive licenses under the following patents that are listed in the SUPPLEMENTARY INFORMATION paragraph. Any licenses granted shall comply with 35 U.S.C. 209 and 37 CFR part 404.

FOR FURTHER INFORMATION CONTACT: Mr. Robert Rosenkrans at U.S. Army Soldier and Biological Chemical Command, Kansas Street, Natick, MA 01760, Phone; (508) 233-4928 or E-mail: Robert.Rosenkrans@natick.army.mil .

SUPPLEMENTARY INFORMATION: The following Patent Numbers, Titles and Issue Dates are provided:

Patent Number: 5,857,540.

Title: Harness for Human Wear.

Issue Date: January 12, 1999.

Patent Number: 5,868,219.

Title: Rappel Rope Storage and Development System.

Issue Date: February 9, 1999.

Patent Number: 5,884,418.

Title: Process and System for Impregnating Garments With Insect Repellent.

Issue Date: March 23, 1999.

Patent Number: 5,893,536.

Title: Parafoil Assembly.

Issue Date: April 13, 1999.

Patent Number: 5,930,909.

Title: System for Impregnating Garment With Insect Repellent.

Issue Date: August 3, 1999.

Patent Number: 5,981,240.

Title: Enzyme-Catalyzed Synthesis of Macromolecules in Organic Solvents.

Issue Date: November 9, 1999.

Patent Number: 5,993,541.

Title: Process for Nucleation of Ceramics and Product Thereof.

Issue Date: November 30, 1999.

Patent Number: 5,994,498.

Title: Method of Forming Water-Soluble, Electrically Conductive and Optically Active Polymers.

Issue Date: November 30, 1999.

Patent Number: 6,018,018.

Title: Enzymatic Template Polymerization.

Issue Date: January 25, 2000.

Patent Number: 6,022,500.

Title: Polymer Encapsulation and Polymer Microsphere Composites.

Issue Date: February 8, 2000.

Patent Number: 6,063,916.

Title: Transesterification of Insoluble Polysaccharides.

Issue Date: May 16, 2000.

Patent Number: 6,079,761.

Title: Retractable Grappling Hook.

Issue Date: June 27, 2000.

Patent Number: 6,095,282

Title: Rappel Tool For Descent of a Load and Rappel Tool and Stirrup Assembly for Ascent Along A Rappel Rope.

Issue Date: August 1, 2000.

Patent Number: 6,096,859.

Title: Process to Control the Molecular Weight and Polydispersity of Substituted Polyphenols And Polyaromatic Amines By Enzymatic Synthesis in Organic Solvents, Microemulsions And Biphasic Systems.

Issue Date: August 1, 2000.

Patent Number: 6,108,813.

Title: Ballistic Resistant Upper Arm Armor Piece.

Issue Date: August 29, 2000.

Gregory D. Showalter,
Army Federal Register Liaison Officer.

[FR Doc. 00-24833 Filed 9-26-00; 8:45 am]

BILLING CODE 3710-08-P